DEPARTMENT OF THE TREASURY

Alcohol and Tobacco Tax and Trade Bureau

27 CFR Part 9

[Docket No. TTB-2024-0004; Notice No. 233]

RIN 1513-AC98

Proposed Establishment of the Rancho Guejito Viticultural Area

AGENCY: Alcohol and Tobacco Tax and Trade Bureau, Treasury.

ACTION: Notice of proposed rulemaking.

SUMMARY: The Alcohol and Tobacco Tax and Trade Bureau (TTB) proposes to establish the 32,360-acre “Rancho Guejito” American viticultural area (AVA) in San Diego County, California. The proposed AVA is located entirely within the existing South Coast AVA and would partially overlap the existing San Pasqual Valley AVA. TTB designates viticultural areas to allow vintners to better describe the origin of their wines and to allow consumers to better identify wines they may purchase. TTB invites comments on these proposals.

DATES: TTB must receive your comments on or before October 28, 2024.

ADDRESSES: You may electronically submit comments to TTB on this proposal using the comment form for this document as posted within Docket No. TTB-2024-0004 on the “Regulations.gov” website at https://www.regulations.gov. Within that docket, you also may view copies of this document, its supporting materials, and any comments TTB receives on this proposal. A direct link to that docket is available on the TTB website at https://www.ttb.gov/wine/notices-of-proposed-rulemaking under Notice No. 233. Alternatively, you may submit comments via postal mail to the Director, Regulations and Ruling Division, Alcohol and Tobacco Tax and Trade Bureau, 1310 G Street, NW. Box 12, Washington, DC 20005. Please see the Public Participation section below for further information on the comments requested regarding this proposal and on the submission, confidentiality, and public disclosure of comments.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). In addition, the Secretary of the Treasury has delegated certain administrative and enforcement authorities to TTB through Treasury Order 120-01.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to its geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes standards for petitions to establish or modify AVAs. Petitions to establish an AVA must include the following:

• Evidence that the area within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon;

• If the proposed AVA is to be established within, or overlapping, an existing AVA, an explanation that both identifies the attributes of the proposed AVA that are consistent with the existing AVA and explains how the proposed AVA is sufficiently distinct from the existing AVA and therefore appropriate for separate recognition; and

• A detailed narrative description of the proposed AVA boundary based on USGS map markings.

Petition To Establish the Rancho Guejito AVA

TTB received a petition from Rancho Guejito Vineyard, Inc., proposing to establish the “Rancho Guejito” AVA. The proposed AVA is located in San Diego County, California, and is entirely within the existing South Coast AVA (27 CFR 9.104) and, if established, would partially overlap the established San Pasqual Valley AVA (27 CFR 9.25). Within the proposed AVA, there are seven commercial vineyards which cover a total of 49.5 acres. At the time the petition was submitted, an additional four new vineyards and the expansion of three existing vineyards were planned. The distinguishing features of the proposed Rancho Guejito AVA are its topography, geology, and climate. The petition also included information about the soils of the proposed AVA. However, because the petition did not include information about the soils of the surrounding regions for comparison, TTB was unable to determine if soils are a distinguishing feature of the proposed AVA.

Proposed Rancho Guejito AVA

Name Evidence

The proposed Rancho Guejito AVA takes its name from the Rancho Guejito y Cañada de Paloma land grant, which the Mexican Governor issued to José María Orozco in 1845. According to the petition, the land grant's name translates to “ranch with a stream in a glen of the dove.” The petition notes that of the 800 ranchos recognized by the U.S. Government, Rancho Guejito is the only one whose boundaries remain intact. The proposed Rancho Guejito AVA will encompass the entire original land grant and the adjacent slope areas that contribute to Guejito Creek. The petition included a copy of an 1882 newspaper advertisement for 100 tons of grapes for sale by the Vineyard Ranch, which was located within the rancho, showing that commercial grape growing within the proposed AVA dates to the late 19th century.

The petition included evidence that the region of the proposed AVA is currently known as “Rancho Guejito.” For instance, a 2007 newspaper article about the region of the proposed AVA is titled “Rancho Guejito-Southern California's land that time forgot.” ¹ In 2013, the Escondido Public Library held a talk about “the historic Rancho Guejito,” which was described as “the last undeveloped Mexican land grant rancho in San Diego County * * *.” ² A 2019 newspaper article about the visit of then-Secretary of Agriculture Sonny Perdue to an avocado farm within the proposed AVA is titled “U.S. Ag Secretary tours Rancho Guejito avo [sic] farm.” ³ A 2019 story about the San Diego Mountain Bike Association's “Ride the Rancho” event is titled “Rancho Guejito opens doors to San Diego mountain bikers.” ⁴ The Escondido Creek Conservancy website states that “Rancho Guejito is imbedded in our cultural history, but is also a critical part of our natural history * * *.” ⁵ Finally, the San Diego County Vintners Association lists the Rancho Guejito Vineyard as a member.⁶

¹ https://www.seattletimes.com/nation-world/rancho-guejito-8212-southern-californias-land-that-time-forgot.

² Originally accessed at https://library.escondido.org/rancho-guejito-revisited-at-the-escondido-public-library.aspx. A copy of the article is included in the appendix to the petition in Docket No. TTB-2024-0004 at https://www.regulations.gov.

³ https://www.times-advocate.com/articles/u-s-ag-secretary-tours-rancho-guejito-avo-farm.

⁴ https://www.sandiegoreader.com/news/2019/mar/25/ranch-guejito-opens-doors-san-diego-mountain-biker.

⁵ https://escondidocreek.org/news/an-eagle-eye-view-of-rancho-guejito.

⁶ https://sandiegowineries.org/directory/ranch-guejito-vineyard.

Boundary Evidence

The proposed Rancho Guejito AVA is located in San Diego County and is entirely within the established South Coast AVA. The proposed AVA encompasses the Rancho Guejito land grant, and its boundaries largely correspond with those of the land grant. The proposed boundary, in part, is concurrent with the boundary of the La Jolla Indian Reservation, which is omitted from the proposed AVA due to its status as Tribal land. The proposed eastern boundary separates the proposed AVA from the Cleveland National Forest and the Mesa Grande Indian Reservation. The southern boundary separates the proposed Rancho Guejito AVA from the majority of the established San Pasqual Valley AVA. The proposed western boundary separates the proposed AVA from the San Pasqual Indian Reservation, and farther to the west, the heavily urbanized city of Escondido.

The southernmost region of the proposed Rancho Guejito AVA overlaps a small portion of the San Pasqual Valley AVA known as Rockwood Canyon. The overlapping area comprises 308 acres of the approximately 9,000-acre established San Pasqual Valley AVA. The petition requests retaining the partial overlap for reasons discussed later in this rulemaking document.

Distinguishing Features

According to the petition, the distinguishing features of the proposed Rancho Guejito AVA are its topography, geology, and climate.

Topography

The proposed Rancho Guejito AVA is situated approximately 33 miles northeast of the city of San Diego. Although the proposed AVA is not immediately adjacent to the Pacific Ocean, the petition states that there are no hills between the proposed AVA and the ocean. The flatter, lower terrain west of the proposed AVA allows for marine air to reach the proposed AVA, which has a moderating effect on its climate. By contrast, the neighboring established Ramona Valley AVA (27 CFR 9.191), to the southeast of the proposed AVA, is farther inland and surrounded by higher elevations. As a result, the Ramona Valley AVA receives less marine air than the proposed AVA. The petition states that because of the marine influence, the proposed AVA generally has cooler year-round high temperatures and warmer year-round low temperatures than regions farther inland.

The petition describes the proposed Rancho Guejito AVA as a region of diverse topography, with varied elevations and landforms. Elevations within the proposed AVA range from 420 feet to 4,210 feet. The northern portion of the proposed AVA is characterized by high elevations, rugged mountains, and steep canyons complimented with lush meadows. The southern portion of the proposed AVA is characterized by lower elevations with gently rolling hills and large expanses of grasslands. Although the proposed AVA includes areas with steep slopes, the petition notes that 33 percent, or 10,540 acres, within the proposed AVA are 15 percent or less in slope angle. The following table shows the elevation and slope angles of the existing and planned vineyards within the proposed AVA.

⁷ For a map showing the specific locations of the established and planned vineyards within the proposed AVA, see Figure 2 of the petition, which is included in Docket TTB-2024-0004 at https://www.regulations.gov.

Table 1—Elevation and Slope Angles of Vineyards ⁷
Vineyard name | Elevation (feet) | Average slope angle (percent)
Established Vineyards
Rockwood Hillside | 617-758 | 39
Rockwood Canyon | 426-437 | 1.88
Coates | 1,507-1,522 | 3.33
Anderson Flats | 1,950-1,989 | 4.23
Vineyard West | 2,045-2,055 | 1
Vineyard East | 2,107-2,127 | 3.92
Chimney Flats | 2,951-2,987 | 7.90
Planned Vineyards
Bull | 1,741-1,812 | 4.35
Twin Flats | 2,607-2,613 | 1.05
Bear Springs | 2,907-2,917 | 3.15
Pine Mountain | 4,136-4,156 | 6.06

The petition states that the diversity of the topography within the proposed AVA affects the climate and precipitation and allows a large variety of grape varietals to grow successfully. At the time the petition was submitted, 24 different varieties of grapes were grown in the proposed AVA, including the cool-climate chardonnay and the warm-climate syrah and cabernet sauvignon varietals.

Unlike the proposed AVA, the topography of the surrounding regions is less diverse. To the immediate north of the proposed AVA, the elevations drop sharply into the San Luis Rey watershed, and the slope angles are steeper and unsuitable for viticulture. To the southeast of the proposed AVA is the established Ramona Valley AVA, which is described as a broad, flat valley ringed by hills. The petition states that the Ramona Valley AVA has less variation in elevations than the proposed Rancho Guejito AVA, and the average vineyard elevation is 1,400 feet. South of the proposed AVA is the established San Pasqual Valley AVA, which is a large alluvial valley with elevations less than 500 feet. To the west of the northern part of the proposed AVA, elevations drop sharply into Hellhole Canyon, within the Hellhole Canyon Preserve. Farther west beyond the canyon is the San Diego Zoo Safari Park and the largely residential suburbs of San Diego. The petition states that the largely man-made character of this region distinguishes it physically from the largely undeveloped terrain of the proposed AVA.

Geology

According to the petition, the primary geologic formation underlying the proposed Rancho Guejito AVA is Middle Jurassic to Late Cretaceous tonalite, which is an igneous, plutonic rock with a coarse texture. The northern portion of the proposed AVA also contains Early Proterozoic to Late Cretaceous plutonic rock and Triassic to Cretaceous gabbro, while the southern region also contains a small amount of Pliocene to Holocene alluvium. The decomposition of the plutonic rock contributes to the formation of soils. The primary soil series of the proposed Rancho Guejito AVA are Fallbrook, Ramona, Visalia, and Placentia loams. These soils are described as coarse, well-drained, moderately deep to deep sandy loams. However, because the petition did not include a comparison of the soils of the surrounding regions, TTB is unable to determine if soils are a separate distinguishing feature of the proposed AVA.

The petition also states that the decomposition of these geologic features over millennia contributes minerals that are important to the health of grapevines. For example, gabbro is rich in magnesium and iron, which play important roles in chlorophyll formation and photosynthesis as well as cell strengthening. The plutonic rocks in tonalite decompose into soils that are generally sandy, coarse, and drain well and are desirable for growing grape varietals such as Grenache, Claret Blanc, and Rousanne.

To the north and east of the proposed Rancho Guejito AVA, Middle Jurassic to Late Cretaceous tonalite is also present, but geologic formations consisting of gabbro and schist are more common than within the proposed AVA. South of the proposed AVA, in the established San Pasqual Valley AVA, the most common geologic feature is Pliocene to Holocene alluvium. To the west of the proposed AVA, Middle Jurassic to Late Cretaceous tonalite is also the most common geologic feature, but the urban nature of this region makes it less suitable for commercial viticulture.

Climate

The petition describes the overall climate of the proposed Rancho Guejito AVA as a Mediterranean climate, meaning that the region experiences dry, mild summers and precipitation is limited to the winter months, generally between October and April. Due to the diversity of elevations within the proposed AVA, temperatures are also diverse, with the higher elevations in the north of the proposed AVA typically having cooler temperatures and smaller growing degree day (GDD) ⁸ accumulations than the lower elevations in the southern portion. Although GDD accumulations vary within the proposed AVA, the petition states that the same varietals of grapes can be grown throughout, but ripening takes longer in the portions that have lower accumulations. The following table shows the average GDD accumulations from 2010 to 2020 from multiple locations within the proposed AVA and the regions to the southeast and east. The petition did not provide climate data from the regions to the north, west, or due east of the proposed AVA.

⁸ See Albert J. Winkler, General Viticulture (Berkeley: University of California Press, 2nd Ed. 1974), pages 61-64. In the Winkler climate classification system, annual heat accumulation during the growing season, measured in annual GDDs, defines climatic regions. One GDD accumulates for each degree Fahrenheit that a day's mean temperature is above 50 degrees F, the minimum temperature required for grapevine growth.

⁹ GDD data from the Ramona Airport taken from TTB Notice No. 38, which proposed establishing the Ramona Valley AVA. See 70 FR 16459, March 31, 2005.

Table 2—Growing Degree Day Accumulations
Weather station location (direction from proposed AVA) | Elevation (feet mean sea level) | GDD aAccumulation
Pine Mountain (within) | 3,680 | 3,216
Cienega Flats (within) | 3,020 | 3,422
Vineyard Ranch (within) | 2,080 | 3,624
Anderson Flats (within) | 1,830 | 3,528
Rockwood (within) | 430 | 3,741
San Pasqual (south) | 400 | 3,493
Ramona Airport (southeast) | 1,390 | ⁹ 3,470

The GDD accumulations in the highest elevations of the proposed AVA are lower than those of the regions to the south and southeast of the proposed AVA, which have lower elevations. The lowest and middle-range elevations of the proposed AVA have higher GDD accumulations than the regions to the south and southeast. The petition attributes the lower GDD accumulations in the San Pasqual Valley AVA to the fact that the AVA is a valley that acts as a cold sink, trapping the cool air that drains from the higher elevations of the proposed AVA at night. The petition states that the Ramona Valley AVA is farther inland than the proposed Rancho Guejito AVA and thus temperatures are less moderated by the marine air, resulting in a more continental climate with cooler nighttime temperatures that can reduce GDD accumulations.

To further demonstrate the impact of the marine influence on climate within the proposed Rancho Guejito AVA, the petition included average monthly growing season maximum and minimum temperatures from within the proposed AVA and from within the Ramona Valley AVA.¹⁰ The Anderson Flats location within the proposed AVA sits at elevations similar to those found within the Ramona Valley AVA, yet due to marine influence, has lower maximum temperatures and warmer minimum temperatures than the Ramona Valley AVA.

¹⁰ The period of record is 2010-2020.

¹¹ See Figure 1B to the petition in Docket No. TTB-2024-0004 at https://www.regulations.gov for an illustration of the overlapping region.

Table 3—Average Monthly Growing Season Maximum Temperatures
[degrees fahrenheit]
Month | Anderson flats (proposed AVA) | Ramona airport (Ramona Valley AVA)
April | 71 | 73
May | 73 | 75
June | 79 | 84
July | 83 | 89
August | 87 | 91
September | 85 | 88
October | 79 | 81

Table 4—Average Monthly Growing Season Minimum Temperatures
[degrees fahrenheit]
Month | Anderson flats (proposed AVA) | Ramona Valley AVA
April | 47 | 43
May | 50 | 48
June | 53 | 52
July | 59 | 58
August | 63 | 58
September | 62 | 55
October | 56 | 48

Comparison of the Proposed Rancho Guejito AVA to the Existing South Coast AVA

The South Coast AVA was established by T.D. ATF-218, which published in the Federal Register on November 21, 1985 (50 FR 48083). According to T.D. ATF-218, the primary feature of the South Coast AVA is climate affected by coastal influence.

The proposed Rancho Guejito AVA shares the coastal climate of the larger South Coast AVA. However, the proposed AVA's smaller size means that its geographic features, while varied, are more uniform than those of the much larger, multi-county South Coast AVA. Additionally, although the proposed AVA receives marine air from the Pacific Ocean, it does not receive as much as portions of the South Coast AVA that are adjacent to the Pacific Ocean.

Partial Overlap With the Existing San Pasqual Valley AVA

The proposed Rancho Guejito AVA would, if established, partially overlap 308 acres of the established San Pasqual Valley AVA in a region known as Rockwood Canyon. The overlapping region is in the southern portion of the proposed AVA and the eastern portion of the San Pasqual Valley AVA.¹¹ The petition requests retaining the partial overlap because the Rockwood Canyon region has characteristics of both the proposed Rancho Guejito AVA and the established San Pasqual Valley AVA.

Name Evidence

The “Rancho Guejito” name applies to the overlapping region, as it does to the proposed AVA. For example, Guejito Creek runs through both the overlapping area and the rest of the proposed AVA. A 2007 article about the sale of Rockwood Ranch, located within the overlapping region, notes that the ranch “connects the San Pasqual Valley with Rancho Guejito.” ¹² A 2005 report from the Conservation Biology Institute on the ecological and cultural resources of Rancho Guejito notes that “[u]pper Rockwood Canyon likely contains many large prehistoric villages,” including the village of Puk-ke-dudl, which was “located on the east slope of Rockwood Canyon. . .”.¹³ Finally, the canyon property is currently under the ownership of Rancho Guejito Vineyards, LLC, and grapes grown in the overlapping region are bottled under the “Rancho Guejito Vineyards” name.

¹² www.sohosandiego.org/reflections/2007-1/guejito_rockwood.htm.

¹³ Jerre Ann Stallcup et. al., “Conservation Significance of Rancho Guejito—the jewel of San Diego County,” (2005), Consbio.org/wp-content/uploads/2022/05/RanchoGuejito_report.pdf.

Comparison to Existing San Pasqual Valley AVA and Proposed Rancho Guejito AVA

According to the petition, in the overlapping area, the climate transitions between the middle elevations of the proposed Rancho Guejito AVA and the San Pasqual Valley AVA and shares characteristics of both regions. For example, the average monthly minimum temperatures within the overlapping area are similar to those in the established San Pasqual Valley AVA. Cool nighttime air draining from the higher elevations in the northern portion of the proposed Rancho Guejito AVA flow south and into lower elevations of the overlapping area and the San Pasqual Valley AVA. The following table shows the average monthly minimum temperatures in degrees Fahrenheit for Rockwood Canyon, within the overlapping area, and for a location solely within the San Pasqual Valley AVA.

Table 5—Average Monthly Minimum Temperatures
Month | Rockwood Canyon | San Pasqual Valley AVA
April | 46 | 45
May | 50 | 50
June | 54 | 54
July | 60 | 59
August | 59 | 58
September | 56 | 55
October | 49 | 49

However, the petition notes that the cool nighttime air remains longer in the San Pasqual Valley AVA because the east-west oriented valley acts as a cold sink to trap the cooler air, while the north-south orientation of the overlapping region allows the cold air to pass through the canyon and into the valley. As a result, nighttime temperatures in the San Pasqual Valley AVA remain cooler for more hours, reducing annual GDD accumulations. As discussed earlier in the climate section of this document, GDD accumulations in the middle and low elevations of the proposed Rancho Guejito AVA are greater than those of the San Pasqual Valley AVA.

The geology of the overlapping area also shares the traits of both the proposed AVA and the established San Pasqual Valley AVA.¹⁴ The overlapping area is a combination of Pliocene to Holocene alluvium and Middle Jurassic to Late Cretaceous tonalite. Tonalite is the most common geologic feature in the proposed Rancho Guejito AVA. Although small amounts of tonalite also exist along the edges of the San Pasqual Valley AVA, the primary geologic feature of the valley is Pliocene to Holocene alluvium.

¹⁴ See Figure 6 to the petition in Docket No. TTB-2024-0004 at https://www.regulations.gov.

The proposed Rancho Guejito AVA petition stated that the proposed AVA receives between 13 and 24 inches of rain a year. Because the petition did not adequately describe the effects of precipitation on viticulture, TTB does not consider precipitation to be a distinguishing feature of the proposed AVA. However, the petition did include a map illustrating mean annual precipitation amounts for the San Pasqual Valley AVA and the proposed AVA,¹⁵ including the overlapping Rockwood Canyon region. The map supports the petition's claim that the overlapping region shares characteristics of both the proposed AVA and the San Pasqual Valley AVA. The overlapping region averages 14 inches of rain a year, which is the same as the easternmost portion of the San Pasqual Valley AVA and the southernmost portion of the proposed Rancho Guejito AVA that is outside the overlapping area.

¹⁵ See Figure 8 to the petition in Docket No. TTB-2024-0004 at https://www.regulations.gov.

The petition also included information about the specific soils of the proposed Rancho Guejito AVA, but it did not provide sufficient evidence about the soils of the surrounding regions or the viticultural effects of soil for TTB to designate soils as a distinguishing feature. However, the petition did include a map of the hydrologic soils groups of the proposed AVA and the eastern portion of the San Pasqual Valley AVA.¹⁶ The map supports the petition's claim that the overlapping region contains characteristics of both the proposed AVA and the established AVA. The hydrologic soil group map shows soil groups A (high water infiltration rate) and B (moderate water infiltration rate) are the dominant groups in the San Pasqual Valley AVA. Group B soils also appear throughout the proposed Rancho Guejito AVA. The overlapping region contains both soil groups A and B.

¹⁶ See Figure 4 to the petition in Docket No. TTB-2024-0004 at https://www.regulations.gov.

TTB Determination

TTB concludes that the petition to establish the 32,360-acre “Rancho Guejito” AVA merits consideration and public comment, as invited in this document.

Boundary Description

See the narrative boundary descriptions of the petitioned-for AVA in the proposed regulatory text published at the end of this document.

Maps

The petitioner provided the required maps, and they are listed below in the proposed regulatory text. You may also view the proposed Rancho Guejito AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name or with a brand name that includes an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See 27 CFR 4.39(i)(2) for details.

If TTB establishes this proposed AVA, its name, “Rancho Guejito,” will be recognized as a name of viticultural significance under § 4.39(i)(3) of the TTB regulations (27 CFR 4.39(i)(3)). The text of the proposed regulation clarifies this point. Consequently, wine bottlers using “Rancho Guejito” in a brand name, including a trademark, or in another label reference as to the origin of the wine, would have to ensure that the product is eligible to use the AVA name as an appellation of origin if this proposed rule is adopted as a final rule. The approval of the proposed Rancho Guejito AVA would not affect any existing AVA, and any bottlers using “South Coast” as an appellation of origin, or in a brand name, for wines made from grapes grown within the Rancho Guejito AVA would not be affected by the establishment of this new AVA. If approved, the establishment of the proposed Rancho Guejito AVA would allow vintners to use “Rancho Guejito,” “South Coast,” or both AVA names as appellations of origin for wines made from grapes grown within the proposed Rancho Guejito AVA, if the wines meet the eligibility requirements for the appellation. Vintners would be able to use “San Pasqual Valley,” “Rancho Guejito,” “South Coast,” or a combination of the three AVA names as appellations of origin on wines made primarily from grapes grown within the overlapping portion of the proposed Rancho Guejito AVA, if the wines meet the eligibility requirements for the appellation.

Public Participation

Comments Invited

TTB invites comments from interested members of the public on whether TTB should establish the proposed Rancho Guejito AVA. TTB is interested in receiving comments on the sufficiency and accuracy of the name, boundary, topography, geology, soils, and climate, and other required information submitted in support of the AVA petition. In addition, because the proposed Rancho Guejito AVA would be within the existing South Coast AVA, TTB is interested in comments on whether the evidence submitted in the petition regarding the distinguishing features of the proposed AVA sufficiently differentiates it from the existing South Coast AVA. TTB is also interested in comments on whether the geographic features of the proposed Rancho Guejito AVA are so distinguishable from the South Coast AVA that the proposed AVA should not be part of the established AVA. Finally, TTB is interested in comments on whether the geographic features of the portion of the established San Pasqual Valley AVA that overlap the proposed AVA are so distinguishable from the rest of the established AVA that the overlapping area should no longer be part of the San Pasqual Valley AVA. Please provide any available specific information in support of your comments.

Because of the potential impact of the establishment of the proposed Rancho Guejito AVA on wine labels that include the term “Rancho Guejito” as discussed above under Impact on Current Wine Labels, TTB is particularly interested in comments regarding whether there will be a conflict between the proposed area names and currently used brand names. If a commenter believes that a conflict will arise, the comment should describe the nature of that conflict, including any anticipated negative economic impact that approval of the proposed AVA will have on an existing viticultural enterprise. TTB is also interested in receiving suggestions for ways to avoid conflicts, for example, by adopting a modified or different name for the proposed AVA.

Submitting Comments

You may submit comments on this proposal as an individual or on behalf of a business or other organization via the Regulations.gov website or via postal mail, as described in the ADDRESSES section of this document. Your comment must reference Notice No. 233 and must be submitted or postmarked by the closing date shown in the DATES section of this document. You may upload or include attachments with your comment. You also may submit a comment requesting a public hearing on this proposal. The TTB Administrator reserves the right to determine whether to hold a public hearing.

Confidentiality and Disclosure of Comments

All submitted comments and attachments are part of the rulemaking record and are subject to public disclosure. Do not enclose any material in your comments that you consider confidential or that is inappropriate for disclosure.

TTB will post, and you may view, copies of this document, the related petition, supporting materials, and any comments TTB receives about this proposal within the related Regulations.gov docket. In general, TTB will post comments as submitted, and it will not redact any identifying or contact information from the body of a comment or attachment.

Please contact TTB's Regulations and Rulings division by email using the web form available at https://www.ttb.gov/contact-rrd, or by telephone at 202-453-2265, if you have any questions regarding comments on this proposal or to request copies of this document, its supporting materials, or the comments received.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993, as amended. Therefore, no regulatory assessment is required.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.___ to read as follows:

§ 9.___ Rancho Guejito.

(a) Name. The name of the viticultural area described in this section is “Rancho Guejito”. For purposes of part 4 of this chapter, “Rancho Guejito” is a term of viticultural significance.

(b) Approved maps. The 5 United States Geological Survey (USGS) 1:24,000 scale topographic maps used to determine the boundary of the viticultural area are titled:

(1) San Pasqual, CA, 2018;

(2) Rodriguez Mountain, CA, 2018;

(3) Boucher Hill, CA, 2018;

(4) Palomar Observatory, CA, 2018; and

(5) Mesa Grande, CA, 2018.

(c) Boundary. The Rancho Guejito viticultural area is located in San Diego County in California. The boundary of the Rancho Guejito viticultural area is as described as follows:

(1) The beginning point is on the San Pasqual map at the intersection of State Route 78 (locally known as San Pasqual Valley Road) and Santa Ysabel Creek. From the beginning point, proceed northwest, then west, then southwest along State Route 78 to its intersection with the western boundary of Section 35, T12S/R1W; then

(2) Proceed northwest in a straight line to the 992-foot elevation point in Section 27, T12S/R1W; then

(3) Proceed northwest in a straight line to the 1,480-foot elevation point in Section 27, T12S/R1W; then

(4) Proceed northwest in a straight line to the intersection of the western boundary of Section 22, T12S/R1W, and the 1,100-foot elevation contour; then

(5) Proceed north along the western boundary of Section 22, T12S/R1W, to the northern boundary of Section 22; then

(6) Proceed east along the north boundary of Section 22, T12S/R1W, to the 1,798-foot elevation point; then

(7) Proceed northeasterly in a straight line for 2,300 feet, crossing onto the Rodriguez Mountain map, to the 2,218-foot elevation point in Section 15, T12S/R1W; then

(8) Proceed north in a straight line for 3,100 feet to the 2,237-foot elevation point in Section 15, T12S/R1W; then

(9) Proceed northerly in a straight line for 5,900 feet to the intersection of Old Melrose Ranch Road and New Moon Lane in Section 3, T12S/R1W; then

(10) Proceed northwest in a straight line, crossing the peak of French Mountain and over Escondido Creek, to the 1,520-foot elevation contour in section 34, T12S/R1W; then

(11) Proceed northeasterly along the 1,520-foot elevation contour for 1,300 feet to its intersection with Escondido Creek; then

(12) Proceed easterly along Escondido Creek to its easternmost point in Section 25, T12S/R1W; then

(13) Proceed northerly in a straight line for 8,100 feet to the 2,300-foot elevation contour north of Sierra Verde Road in Section 24, T12S/R1W; then

(14) Proceed northeast in a straight line for 13,000 feet to the peak of Rodriguez Mountain with an elevation of 3,846 feet in Section 8, T12S/R1W; then

(15) Proceed northeasterly in a straight line for 9,500 feet, crossing onto the Boucher Hill map, to the northern boundary of Section 4, T11S/R1E, which is also concurrent with the boundary of the La Jolla Indian Reservation; then

(16) Proceed east along the northern boundary of Section 4 for 15,900 feet, crossing onto the Palomar Observatory map, and continuing along the northern boundaries of Sections 3, 2, and 1, T11S/R1E, to the second intersection of the northern boundary of Section 1 and the 3,200-foot elevation contour; then

(17) Proceed due south in a straight line for 6,500 feet, crossing onto the Mesa Grande map, to the intersection of an unnamed road known locally as Pine Mountain Road and the 3,500-foot elevation contour in Section 12, T11S/R1E; then

(18) Proceed southeasterly along Pine Mountain Road for 3,800 feet to its intersection with the 3,440-foot elevation contour in Section 12, T11S/R1E; then

(19) Proceed southwesterly in a straight line for 6,910 feet to the northeast corner of Section 23, T11S/R1E; then

(20) Proceed due south along the eastern boundary of Section 23 for 4,600 feet to its intersection with Temescal Creek; then

(21) Proceed southwesterly along Temescal Creek for 6,800 feet to its intersection with the northern boundary of Section 35, T11S/R1E; then

(22) Proceed west along the northern boundary of Sections 35 and 34, crossing onto the Rodriguez Mountain map, to the northwestern corner of Section 34; then

(23) Proceed south along the western boundary of Section 34, T11S/R1E, to the northeastern corner of Section 4, T12S/R1E; then

(24) Proceed south along the eastern boundary of Section 4 to its intersection with the 1,600-foot elevation contour; then

(25) Proceed northwest in a straight line to the northernmost point of an unnamed pond in Section 4, T12S/R1E; then

(26) Proceed southwest in a straight line to the intersection of the eastern boundary of Section 8, T12S/R1E, and the Guejito Truck Trail; then

(27) Proceed southwesterly along the Guejito Truck Trail, crossing onto the San Pasqual map, to its intersection with the northern boundary of Section 10, T12S/R1E; then

(28) Proceed southwesterly in a straight line to the 1,880-foot elevation point in Section 20; then

(29) Proceed southwest in a straight line for 3,650 feet to the 1,937-foot elevation point in Section 29, T12S/R1E; then

(30) Proceed southwest in a straight line for 5,400 feet to the southern boundary of Section 30, T12S/R1E; then

(31) Proceed west along the southern boundaries of Sections 30 and 25 to the southwestern corner of Section 25, T12S/R1E; then

(32) Proceed southwesterly in a straight line to the beginning point.

Signed: August 16, 2024.
Mary G. Ryan,
Administrator.
Approved: August 19, 2024.
Aviva R. Aron-Dine,
Acting Assistant Secretary (Tax Policy).

[FR Doc. 2024-19415 Filed 8-28-24; 8:45 am]

BILLING CODE 4810-31-P